DEPARTMENT OF ENERGY

Federal Energy Regulatory Commission

[Project No. 12635-002—New York]

Moriah Hydro LLC; Notice of Availability of the Draft Environmental Impact Statement for the Proposed Mineville Energy Storage Project and Intention To Hold Public Meetings

In accordance with the National Environmental Policy Act of 1969 and the Federal Energy Regulatory Commission's (Commission) regulations, 18 CFR part 380, the Office of Energy Projects has reviewed the application for license for the proposed Mineville Energy Storage Project (FERC No. 12635) and has prepared a draft environmental impact statement (EIS) for the project. The proposed project would be located in a decommissioned subterranean mine complex in the Town of Moriah, Essex County, New York. No federal lands would be occupied by project works or located within the project boundary.

The draft EIS contains staff's evaluations of the applicant's proposal and the alternatives for licensing the proposed Mineville Energy Storage Project. The draft EIS documents the views of governmental agencies, non-governmental organizations, affected Indian tribes, the public, the license applicant, and Commission staff.

A copy of the draft EIS is available for review at the Commission in the Public Reference Room, or may be viewed on the Commission's website at http://www.ferc.gov, using the “eLibrary” link. Enter the docket number, excluding the last three digits in the docket number field, to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

All comments must be filed by August 19, 2019.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE, Washington, DC 20426. The first page of any filing should include docket number P-12635-002.

Anyone may intervene in this proceeding based on this draft EIS (18 CFR 380.10). You must file your request to intervene as specified above.¹ You do not need intervenor status to have your comments considered.

¹ Interventions may also be filed electronically via the internet in lieu of paper. See the previous discussion on filing comments electronically.

In addition to or in lieu of sending written comments, you are invited to attend public meetings that will be held to receive comments on the draft EIS. The daytime meeting will focus on resource agency and non-governmental organization input, while the evening meeting is primarily for public input. All interested individuals and entities may attend one or both of the public meetings. The times and locations of the meetings are as follows:

Daytime Meeting

Date and Time: Tuesday, July 30, at 10:00 a.m. (Local Time).

Location: New York State Department of Environmental Conservation, Region 5 Sub-Office, Conference Room A, 232 Golf Course Road, Warrensburg, New York 12885.

Evening Meeting

Date and Time: Tuesday, July 30, at 7:00 p.m. (Local Time).

Location: Moriah Central School Auditorium, Moriah Central School, 39 Viking Lane, Port Henry, New York 12974.

At these meetings, resource agency personnel and other interested persons will have the opportunity to provide oral and written comments and recommendations regarding the draft EIS. The meetings will be recorded by a court reporter, and all statements (verbal and written) will become part of the Commission's public record for the project. These meetings are posted on the Commission's calendar located at http://www.ferc.gov/EventCalendar/EventsList.aspx along with other related information.

For further information, please contact Christopher Millard at (202) 502-8256 or at christopher.millard@ferc.gov.

Dated: June 18, 2019.
Nathaniel J. Davis, Sr.,
Deputy Secretary.

[FR Doc. 2019-13342 Filed 6-21-19; 8:45 am]

BILLING CODE 6717-01-P